DEPARTMENT OF HEALTH AND HUMAN SERVICES

Centers for Disease Control and Prevention

Disease, Disability, and Injury Prevention and Control Special Emphasis Panel (SEP): Center of Excellence in Public Health Informatics, Request for Application (RFA) HK-09-001

This meeting is for the initial review of applications.

In accordance with Section 10(a)(2) of the Federal Advisory Committee Act (Pub. L. 92-463), the Centers for Disease Control and Prevention (CDC) announces the aforementioned meeting.

Time and Date:

7 p.m.-9 p.m., July 22, 2009 (Closed).

8 a.m.-5 p.m., July 23, 2009 (Closed).

8 a.m.-5 p.m., July 23, 2009 (Closed).

Location: Emory Conference Center, 1615 Clifton Road, Atlanta, Georgia, 30329. Phone: (404) 712-6025.

Status: The meeting will be closed to the public in accordance with provisions set forth in Section 552b(c)(4) and (6), Title 5 U.S.C., and the determination of the Director, Management Analysis and Services Office, CDC, pursuant to Public Law 92-463.

Matters To Be Discussed: The meeting will include the review, discussion, and evaluation of applications received in response to “Centers of Excellence in Public Health Informatics, RFA HK-09-001.”

Contact Person for More Information: Juliana K. Cyril, PhD, M.P.H., Associate Director, Office of Public Health Research, Office of the Chief Science Officer, Centers for Disease Control and Prevention, 1600 Clifton Road, NE., mailstop E-78, Atlanta, GA 30333, Telephone: 404-639-4639, E-mail: jcyril@cdc.gov.

The Director, Management Analysis and Services Office, has been delegated the authority to sign Federal Register notices pertaining to announcements of meetings and other committee management activities, for both CDC and the Agency for Toxic Substances and Disease Registry.

Dated: June 18, 2009.
Elaine L. Baker,
Director, Management Analysis and Services Office, Centers for Disease Control and Prevention.

[FR Doc. E9-15404 Filed 6-30-09; 8:45 am]

BILLING CODE 4163-18-P